DEPARTMENT OF THE TREASURY

Office of the Comptroller of the Currency

FEDERAL DEPOSIT INSURANCE CORPORATION

DEPARTMENT OF THE TREASURY

Office of Thrift Supervision

Agency Information Collection Activities: Submission for OMB Review; Comment Request

AGENCIES: Office of the Comptroller of the Currency (OCC), Treasury; Federal Deposit Insurance Corporation (FDIC); and Office of Thrift Supervision (OTS), Treasury.

ACTION: Joint notice and request for comment.

SUMMARY: The OCC, FDIC, and OTS (Agencies), as part of their continuing effort to reduce paperwork and respondent burden, invite the general public and other Federal agencies to comment on proposed revisions to a continuing information collection, as required by the Paperwork Reduction Act of 1995. The Agencies are soliciting comment concerning their information collection titled, “Interagency Charter and Federal Deposit Insurance Application.” The Agencies also give notice that they have sent the information collection to OMB for review and approval. The Agencies may not conduct or sponsor, and the respondent is not required to respond to, an information collection unless it displays a currently valid Office of Management and Budget (OMB) control number.

DATES: You should submit written comments to the Agencies and the OMB Desk Officer by January 11, 2002.

ADDRESSES: Interested parties are invited to submit comments to any or all of the Agencies. All comments, which should refer to the OMB control number, will be shared among the Agencies:

OCC: Office of the Comptroller of the Currency, Public Information Room, 250 E Street, SW., Mail Stop 1-5, Attention: 1557-0014, Washington, DC 20219. You may make an appointment to inspect and photocopy comments at the same location by calling (202) 874-5043. In addition, you may fax your comments to (202) 874-4448 or E-mail them to regs.comments@occ.treas.gov.

FDIC: Tamara R. Manly, Management Analyst (Regulatory Analysis), Office of Executive Secretary, Room F-4058, Attention: Comments/OES, Federal Deposit Insurance Corporation, 550 17th Street, NW., Washington, DC 20429. All comments should refer to “Interagency Charter and Federal Deposit Insurance Application.” Comments may be hand-delivered to the guard station at the rear of the 550 17th Street Building (located on F Street), on business days between 7:00 a.m. and 5:00 p.m. [FAX number (202) 898-3838; Internet address: comments@fdic.gov]. Comments may be inspected and photocopied in the FDIC Public Information Center, Room 100, 801 17th Street, NW., Washington, DC between 9:00 a.m. and 4:30 p.m. on business days.

OTS: Information Collection Comments, Chief Counsel's Office, Office of Thrift Supervision, 1700 G Street, NW., Washington, DC 20552, Attention: 1550-0005, FAX Number (202) 906-6518, or E-mail to infocollection.comments@ots.treas.gov. OTS will post comments and the related index on the OTS Internet site at www.ots.treas.gov. In addition, interested persons may inspect comments at the Public Reference Room, 1700 G Street, NW., by appointment. To make an appointment, call (202) 906-5922, send an E-mail to publicinfo@ots.treas.gov, or send a facsimile transmission to (202) 906-7755.

A copy of the comments may also be submitted to the OMB desk officer for the agencies: Alexander T. Hunt, OMB Desk Officer, Office of Information and Regulatory Affairs, Office of Management and Budget, New Executive Office Building, Room 3208, Washington, DC 20503.

FOR FURTHER INFORMATION CONTACT: You may request additional information or a copy of the collection from:

OCC: Jessie Dunaway, OCC Clearance Officer, or Camille Dixon, (202) 874-5090, Legislative and Regulatory Activities Division, Office of the Comptroller of the Currency, 250 E Street, SW., Washington, DC 20219. For subject matter information, you may contact Cheryl Martin at (202) 874-4614, Licensing Policy and Systems, Licensing Department, Office of the Comptroller of the Currency, 250 E Street, SW., Washington, DC 20219.

FDIC: Tamara R. Manly, Management Analyst (Regulatory Analysis), (202) 898-7453, Office of the Executive Secretary, Federal Deposit Insurance Corporation, 550 17th Street, NW., Washington, DC 20429.

OTS: Sally W. Watts, OTS Clearance Officer, (202) 906-7380; Frances C. Augello, Senior Counsel, Business Transactions Division, (202) 906-6151; Patricia D. Goings, Regulatory Analyst, Examination Policy, (202) 906-5668; or Damon C. Zaylor, Regulatory Analyst, Examination Policy, (202) 906-6787, Office of Thrift Supervision, 1700 G Street, NW., Washington, DC 20552.

SUPPLEMENTARY INFORMATION: The agencies are proposing to extend for three years, with revision, the following currently approved information collection:

Report Title: Interagency Charter and Federal Deposit Insurance Application.

OCC's Title: Comptroller's Corporate Manual (Manual). The specific portions of the Manual covered by this notice are those that pertain to the Charter Application located in the Charters section of the Manual, which will become an interagency form.

OMB Numbers:

OCC: 1557-0014.

FDIC: 3064-0001.

OTS: 1550-0005.

Form Numbers:

OCC: None.

FDIC: 6200/05.

OTS: 138.

Affected Public: Individuals or households; businesses or other for-profit.

Type of Review: Revision of a currently approved collection.

Estimated Number of Respondents:

OCC: 50.

FDIC: 200.

OTS: 20.

Frequency of Response: One time.

Estimated Annual Burden Hours per Response:

OCC: 125.

FDIC:125.

OTS: 125.

Estimated Total Annual Burden Hours:

OCC: 6,250.

FDIC: 25,000.

OTS: 2,500.

Abstract: This submission covers a revision to the charter applications of the OCC and OTS and the deposit insurance application of the FDIC. The proposed form will make the application form uniform among the Agencies and is titled, “Interagency Charter and Federal Deposit Insurance Application.” The Agencies need the information to ensure that the covered proposed activities are permissible under law and regulation and are consistent with safe and sound banking practices. For example, the Agencies are required to consider financial and managerial resources, future earnings prospects, and community reinvestment. Further, the Agencies use the information to evaluate specific individuals' qualifications. Both financial institutions and individuals organizing a financial institution must provide this information.

Current Actions: A task force of the Federal Financial Institutions Examination Council (FFIEC) has adapted, reformatted, and retitled the collection: Interagency Charter and Federal Deposit Insurance Application, pursuant to the Riegle Community Development and Regulatory Improvement Act of 1994 (CDRI). Comments were solicited in the Federal Register on September 18, 2001 (66 FR 48168). The agencies received one comment on the form. The comment is summarized in each agency's OMB submission.

Comments: All comments will become a matter of public record. Written comments are invited on:

a. Whether the information collection is necessary for the proper performance of the agencies' functions, including whether the information has practical utility;

b. The accuracy of the agencies' estimates of the burden of the information collection, including the validity of the methodology and assumptions used;

c. Ways to enhance the quality, utility, and clarity of the information to be collected;

d. Ways to minimize the burden of information collection on respondents, including through the use of automated collection techniques or other forms of information technology; and

e. Estimates of capital or start up costs and costs of operation, maintenance, and purchase of services to provide information.

Dated: December 4, 2001.
Mark J. Tenhundfeld,
Assistant Director, Legislative and Regulatory Activities Division, Office of the Comptroller of the Currency.
Dated at Washington, DC, this 3rd day of December, 2001.
Robert E. Feldman,
Executive Secretary.
Dated: December 5, 2001.
Deborah Dakin,
Deputy Chief Counsel, Regulations and Legislation Division,Office of Thrift Supervision.

[FR Doc. 01-30646 Filed 12-11-01; 8:45 am]

BILLING CODE 4810-33-P, 6714-01-P, and 6720-01-P